FEDERAL MEDIATION AND CONCILIATION SERVICE

Privacy Act of 1974; System of Records

AGENCY: Federal Mediation and Conciliation Service

ACTION: Notice of a new system of records.

SUMMARY: The Federal Mediation and Conciliation Service (FMCS) uses this system to collect, process, and maintain information from applicants to the Shared Neutrals program. The purpose of this program is to reduce the cost of litigation involving EEO and workplace disputes across all federal agencies.

DATES: This system of records will be effective without further notice on September 18, 2024 unless otherwise revised pursuant to comments received. Comments must be received on or before September 18, 2024.

ADDRESSES: You may send comments, identified by FMCS-00011 by any of the following methods:

• Mail: Office of General Counsel, 250 E Street SW, Washington, DC 20427.

• Email: register@fmcs.gov. Include FMCS-00011 on the subject line of the message.

FOR FURTHER INFORMATION CONTACT: Anna Davis, General Counsel, at adavis@fmcs.gov or 202-606-3737.

SUPPLEMENTARY INFORMATION: The Administrative Dispute Resolution Act of 1996 (ADRA), 5 U.S.C. 571 et seq., authorizes and encourages agencies to use various alternative means of dispute resolution in the federal administrative process in order to avoid the time and expense of litigation. This legislation also amends the Taft-Hartley Act by permanently adding section 173(f) of title 29 of the United States Code (29 U.S.C. 173(f)) so that FMCS may provide all forms of alternative dispute resolution assistance to federal agencies. Under this legislation, FMCS contains a dispute resolution program to assist with EEO and workplace disputes for all federal agencies. This Shared Neutrals program provides more than 50 participating federal agencies access to a pool of trained, collateral-duty federal employees. These employees provide mediation services to agencies other than their own in exchange for like services to the program from the recipient agency.

FMCS uses online activity tools that includes Survey Monkey and Microsoft Forms, all of which are online licensed software platforms, for evaluating mediators, and registering participants for training and roundtable discussions.

SYSTEM NAME AND NUMBER:

FMCS-00011 Shared Neutrals Records.

SECURITY CLASSIFICATION:

Unclassified.

SYSTEM LOCATION:

Federal Mediation and Conciliation Service, 250 E Street SW, Washington, DC 20427.

SYSTEM MANAGER(S):

Karen Pierce, Supervisor, Office of Client Services, email kpierce@fmcs.gov, call (202) 606-3672, or send mail to Federal Mediation and Conciliation Service, 250 E Street Southwest, Washington, DC 20427, Attn: Karen Pierce.

AUTHORITY FOR MAINTENANCE OF THE SYSTEM:

Federal Mediation and Conciliation Service, 29 U.S.C. 172, et seq., and Departmental Regulations, 5 U.S.C. 301.

PURPOSE(S) OF THE SYSTEM:

The purpose of the records in this system is for collecting, processing, and maintaining applicant and participant information. This allows FMCS to organize and support agencies needing assistance from volunteer federal employee participants, to contact applicants and participants in the program, and to organize and analyze data for impact of service. This data is used to show the productivity and impact of the program.

CATEGORIES OF INDIVIDUALS COVERED BY THE SYSTEM:

The categories of individuals covered in the system are applicants/participants in the program that includes federal employees and point-of-contacts for federal agencies.

CATEGORIES OF RECORDS IN THE SYSTEM:

The categories of records maintained in the system include the following:

• Name;

• Information pertaining to applicant to include position, associated agency, association with a Federal Executive Board, official duty station, and clearance level;

• Contact information to include physical location, phone numbers, and email addresses;

• Supervisor contact information;

• Request for accommodation information;

• Volunteer information to include cases, status, rank, and the number of hours volunteered for; and

• Other information related to case information, trainings attended, assessments from others, and general information about time in program and work outside of program.

RECORD SOURCE CATEGORIES:

Information in this system of records is provided by federal employees, federal agencies, and Federal Executive Boards.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where the record, either alone or in conjunction with other information creates an indication of a violation or potential violation of civil or criminal laws or regulations.

(b) To disclose information to contractors, grantees, experts, consultants, detailees, and other non-Government employees performing or working on a contract, service, or other assignment for the agency when necessary to accompany an agency function related to this system of records.

(c) To officials of labor organizations and employers receiving services pursuant to 29 U.S.C. 172, et seq.

(d) To officials of labor organizations and federal agencies recognized under 5 U.S.C. chapter 71 upon receipt of a formal request and in accordance with the conditions of 5 U.S.C. 7114 when relevant and necessary to their duties of exclusive representation concerning personnel policies, practices, and matters affecting working conditions.

(e) To disclose information to a Member of Congress or a congressional office in response to an inquiry made on behalf of, and at the request of, an individual who is the subject of the record.

(f) In an appropriate proceeding before a court, grand jury, or administrative or adjudicative body or official, when FMCS or other Agency representing FMCS determines the records are relevant and necessary to the proceeding; or in an appropriate proceeding before an administrative or adjudicative body when the adjudicator determines the records to be relevant to the proceeding.

(g) To the Department of Justice, including Offices of the U.S. Attorneys, or another Federal agency representing FMCS in pending or potential litigation or proceedings before any court, adjudicative, or administrative body. Such disclosure is permitted only when it is relevant and necessary to the litigation or proceeding, and one of the following is a party to the litigation or has an interest in such litigation:

(1) FMCS, or any component thereof;

(2) Any employee or former employee of FMCS in their official capacity;

(3) Any employee or former employee of FMCS in their capacity where the Department of Justice or FMCS has agreed to represent the employee;

(4) The United States, a Federal agency, or another party in litigation before a court, adjudicative, or administrative body, upon the FMCS General Counsel's approval, pursuant to 5 CFR part 295 or otherwise.

(h) To any agency, organization, or person for the purposes of performing audit or oversight operations related to the operation of this system of records or for federal ethics compliance purposes as authorized by law, but only information necessary and relevant to such audit or oversight function.

(i) To disclose data or information to other federal agencies, educational institutions, or FMCS clients who collaborate with FMCS to provide research or statistical information, services, or training concerning conflict management.

(j) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(k) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(l) To disclose information to the National Archives and Records Administration (NARA) or the General Services Administration in records management inspections conducted under authority of 44 U.S.C. 2904 and 2906.

(m) To a former employee of the Agency for purposes of responding to an official inquiry by a federal, state, or local government entity or professional licensing authority, in accordance with applicable Agency regulations; or facilitating communications with a former employee that may be necessary for personnel-related or other official purposes where the Agency requires information and/or consultation assistance from the former employee regarding a matter within that person's former area of responsibility.

(n) To the Government Accountability Office (GAO) for oversight purposes; to the Department of Justice (DOJ) to obtain that department's advice regarding disclosure obligations under the Freedom of Information Act (FOIA); or to the Office of Management and Budget (OMB) to obtain that office's advice regarding obligations under the Privacy Act.

POLICIES AND PRACTICES FOR STORAGE OF RECORDS:

These records are maintained electronically, and data collected is accessed through agency internal drives which require multi-factor authentication (MFA).

POLICIES AND PRACTICES FOR RETRIEVAL OF RECORDS:

Records are retrieved by the name or other programmatic identifier such as agency, associated Federal Executive Board, phone number, or other agency needs.

POLICIES AND PRACTICES FOR RETENTION AND DISPOSAL OF RECORDS:

All records are retained and disposed of in accordance with the Agency's Records Schedule approved by the National Archives and Records Administration (NARA).

ADMINSTRATIVE, TECHNICAL, AND PHYSICAL SAFEGUARDS:

Electronic records are accessed on FMCS's internal drives and through web browsers to the internet that all require multi-factor authentication for login, are safeguarded in a secured environment, and are maintained in a secure, password-protected electronic system that utilize commensurate safeguards that may include firewalls, intrusion detection and prevention systems, and role-based access controls. All records are protected from unauthorized access through appropriate administrative, operational, and technical safeguards. These safeguards include restricting access to authorized personnel who have a “need to know” and password protection identification features.

RECORD ACCESS PROCEDURES:

Individuals must provide the following information for their records to be located and identified: (1) Full name, (2) Address, and (3) A reasonably identifying description of the record content requested. Requests can be submitted via fmcs.gov/foia/,via email to privacy@fmcs.gov, or via mail to the Privacy Office at FMCS 250 E Street SW, Washington, DC 20427. See 29 CFR 1410.3.

CONTESTING RECORDS PROCEDURES:

Requests for correction or amendment of records, on how to contest the content of any records. Privacy Act requests to amend or correct records may be submitted to the Privacy Office at privacy@fmcs.gov or via mail to the Privacy Office at FMCS 250 E Street SW, Washington, DC 20427. Also, see https://www.fmcs.gov/privacy-policy/. See 29 CFR 1410.6.

NOTIFICATION PROCEDURES:

See 29 CFR 1410.3(a), Individual access requests.

EXEMPTIONS PROMULGATED FOR THE SYSTEM:

None.

HISTORY:

None.

Dated: June 25, 2024.
Alisa Zimmerman,
Deputy General Counsel, Federal Mediation and Conciliation Service.

[FR Doc. 2024-18453 Filed 8-16-24; 8:45 am]

BILLING CODE 6732-01-P